ENVIRONMENTAL PROTECTION AGENCY

[ER-FRL-9040-3]

Environmental Impact Statements; Notice of Availability

Responsible Agency: Office of Federal Activities, General Information (202) 564-7156 or https://www2.epa.gov/nepa/

Weekly receipt of Environmental Impact Statements

Filed 07/02/2018 Through 07/06/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180153, Draft, USFS, CA, Omya Sentinel & Butterfield Quarries Expansion, Comment Period Ends: 08/28/2018, Contact: Scott Eliason 909-382-2830

EIS No. 20180154, Final, USFWS, TX, Environmental Impact Statement (EIS) for the Barton Springs/Edwards Aquifer Conservation District Habitat Conservation Plan, Review Period Ends: 08/13/2018, Contact: Marty Tuegel 505-248-6651

EIS No. 20180155, Draft, USACE, CO, Adams and Denver Counties Colorado General Investigation Study, Comment Period Ends: 08/28/2018, Contact: Jeffrey Bohlken 402-995-2671

Dated: July 10, 2018.
Robert Tomiak,
Director, Office of Federal Activities.

[FR Doc. 2018-15017 Filed 7-12-18; 8:45 am]

BILLING CODE 6560-50-P